DEPARTMENT OF DEFENSE

Office of the Secretary

Federal Advisory Committee; National Security Education Board; Charter Renewal

AGENCY: Department of Defense (DoD).

ACTION: Renewal of Federal Advisory Committee.

SUMMARY: Under the provisions of 50 U.S.C. 1903, the Federal Advisory Committee Act of 1972, (5 U.S.C. Appendix), the Government in the Sunshine Act of 1976 (5 U.S.C. 552b), and 41 CFR 102-3.50, the Department of Defense gives notice that it is renewing the charter for the National Security Education Board (hereafter referred to as the Board).

FOR FURTHER INFORMATION CONTACT: Jim Freeman, Deputy Committee Management Officer for the Department of Defense, 703-601-6128.

SUPPLEMENTARY INFORMATION: The Board is a non-discretionary Federal advisory committee established to provide the Secretary of Defense, through the Under Secretary of Defense (Personnel and Readiness), independent advice and recommendations on developing the national capacity to educate U.S. citizens to understand foreign cultures, strengthen U.S. economic competitiveness and enhance international cooperation and security.

The Board shall in accordance with 50 U.S.C. 1903(d) perform the following functions:

a. Develop criteria for awarding scholarships, fellowships, and grants under chapter 37 of title 50, United States Code, including an order of priority in such awards that favors individuals expressing an interest in national security issues or pursuing a career in a national security position.

b. Provide for wide dissemination of information regarding the activities assisted under chapter 37 of title 50, United States Code.

c. Establish qualifications for students desiring scholarships or fellowships, and institutions of higher education desiring grants under chapter 37 of title 50, United States Code, including, in the case of students desiring a scholarship or fellowship, a requirement that the student have a demonstrated commitment to the study of the discipline for which the scholarship or fellowship is to be awarded.

d. After taking into account the annual analyses of trends in language, international, area, and counter-proliferation studies under 50 U.S.C. 1906(b)(1), make recommendations to the Secretary of Defense regarding:

i. Which countries are not emphasized in other United States study abroad programs, such as countries in which few United States students are studying and countries which are of importance to the national security interests of the United States, and are, therefore, critical countries for the purposes of 50 U.S.C. 1902(a)(1)(A);

ii. Which areas within the disciplines described in 50 U.S.C. 1902(a)(1)(B), relating to the national security interests of the United States are areas of study in which United States Students are deficient in learning and are therefore, critical areas within those disciplines for the purposes of that section;

iii. Which area within the disciplines described in 50 U.S.C. 1902(a)(1)(C), are areas in which United States students, educators, and Government employees are deficient in learning and in which insubstantial numbers of United States institutions of higher education provide training and are therefore, critical areas within those disciplines for the purposes of that section;

iv. How students desiring scholarships or fellowships can be encouraged to work for an agency or office of the Federal Government involved in national security affairs or national security policy upon completion of their education; and

v. Which foreign languages are critical to the national security interests of the United States for purposes of 50 U.S.C. 1902(a)(1)(D) (relating to grants for the National Flagship Language Initiative) and 50 U.S.C. 1902(a)(1)(E) (relating to the scholarship program for advanced English language studies by heritage community citizens).

e. Encourage application for fellowships under chapter 37 of title 50, United States Code, from graduate students having an educational background in any academic discipline, particularly in the area of science or technology;

f. Provide the Secretary of Defense biennially with a list of scholarship recipients and fellowship recipients, including an assessment of their foreign area and language skills, who are available to work in a national security position;

g. Not later than 30 days after a scholarship or fellowship recipient completes the study or education for which assistance was provided under the program, provide the Secretary of Defense with a report fully describing the foreign area and language skills obtained by the recipient as a result of the assistance; and

h. Review the administration of the program required under chapter 37 of title 50 United States Code.

The Board shall be comprised of not more than 13 members. Under the provision of title 50 U.S.C. 1903(b), the Board members shall be composed of the following individuals or the representatives of such individuals:

a. The Secretary of Defense, who shall serve as the Chairman of the Board;

b. The Secretary of Education;

c. The Secretary of State;

d. The Secretary of Commerce;

e. The Director of Central Intelligence;

f. The Secretary of Energy; and

g. The Chairperson of the National Endowment for the Humanities.

h. Six individuals appointed by the President, by and with the advice and consent of the Senate, who shall be experts in the fields of international, language, area, and counter-proliferation studies education and who may not be officers or employees of the Federal Government.

Board members appointed by the President shall be appointed for periods specified by the President at the time of their appointment, but not to exceed four years.

Each member of the Board who is a member of the Armed Forces or a civilian officer or employee of the United States shall serve without compensation (other than compensation to which entitled as a member of the Armed Forces or an officer or employee of the United States, as the case may be). Individuals appointed by the President shall receive no compensation for their service on the Board. All members of the Board shall receive per diem and travel for official Board travel.

The Secretary of Defense may invite other distinguished Government officers to serve as non-voting observers of the Board, and appoint consultants, with special expertise to assist the Board on an ad hoc basis.

With DOD approval, the Board is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or workgroups shall not work independently of the chartered Board, and shall report all their recommendations and advice to the Board for full deliberation and discussion. Subcommittees or workgroups have no authority to make decisions on behalf of the chartered Board nor can they report directly to the Department of Defense or any Federal officers or employees who are not Board members.

Subcommittee members, who are not Board members, shall be appointed by the Secretary of Defense according to governing DoD policy and procedures. Such individuals shall be appointed as experts and consultants under the authority of 5 U.S.C. 3109, and serve as special government employees, whose appointments must be renewed by the Secretary of Defense on an annual basis.

The Board shall meet at the call of the Board's Designated Federal Officer, in consultation with the Board's chairperson. The estimated number of Board meetings is four per year.

The Designated Federal Officer, pursuant to DoD policy, shall be a full-time or permanent part-time DoD employee, and shall be appointed in accordance with governing DoD policies and procedures. In addition, the Designated Federal Officer is required to be in attendance at all Board and subcommittee meetings, however, in the absence of the Designated Federal Officer, the Alternate Designated Federal Officer shall attend the meeting.

Pursuant to 41 CFR 102-3.105(j) and 102-3.140, the public or interested organizations may submit written statements to the National Security Education Board membership about the Board's mission and functions. Written statements may be submitted at any time or in response to the stated agenda of planned meeting of the National Security Education Board.

All written statements shall be submitted to the Designated Federal Officer for the National Security Education Board, and this individual will ensure that the written statements are provided to the membership for their consideration. Contact information for the National Security Education Board Designated Federal Officer can be obtained from the GSA's FACA Database— https://www.fido.gov/facadatabase/public.asp.

The Designated Federal Officer, pursuant to 41 CFR 102-3.150, will announce planned meetings of the National Security Education Board. The Designated Federal Officer, at that time, may provide additional guidance on the submission of written statements that are in response to the stated agenda for the planned meeting in question.

Dated: July 21, 2010.
Mitchell S. Bryman,
Alternate OSD Federal Register Liaison Officer, Department of Defense.

[FR Doc. 2010-18173 Filed 7-23-10; 8:45 am]

BILLING CODE 5001-06-P